DEPARTMENT OF AGRICULTURE

Forest Service

Siskiyou County Resource Advisory Committee

AGENCY: Forest Service, USDA.

ACTION: Notice of meeting.

SUMMARY: The Siskiyou County Resource Advisory Committee (RAC) will meet on March 18, 2002, in Yreka, California. The purpose of the meeting is to discuss the following topics: Contracts, implementation on private lands versus public; Develop a tool for feedback to applicants; Invited back proponents, presentation or/and site visits; Non-approved or multi-year projects; Develop a progress report for dollars allocated; Decide funding mechanism; Monitoring design; and Overhead Rate.

March 25, 2002 meeting will be review and rating of local proposals.

DATES: The meetings will be held March 18, 2002 from 3 p.m. to 6 p.m. and March 25, 2002 from 9 a.m. to 3 p.m.

ADDRESSES: The meeting will be held at the Miners Inn and Convention Center, 122 E. Miner Street, Yreka, California.

FOR FURTHER INFORMATION CONTACT: Heidi Perry, Meeting Coordinator, USDA, Klamath National Forest, 1312 Fairlane Road, Yreka, California 96097, (530) 841-4468; e-mail: hperry@fs.fed.us.

SUPPLEMENTARY INFORMATION: Agenda items to be covered include: (1) Roles and Responsibilities for Advisory Committees; (2) Critic Public Proposal Workshop; (3) Project Submittal Process; (4) Project Timelines and (5) Public Comment. The meeting is open to the public. Public input opportunity will be provided and individuals will have the opportunity to address the Committee at that time.

Dated: March 5, 2002.
Margaret J. Boland,
Forest Supervisor.

[FR Doc. 02-5701 Filed 3-8-02; 8:45 am]

BILLING CODE 3410-11-M